DEPARTMENT OF LABOR

Office of the Secretary

Privacy Act of 1974; Publication of Five New Systems of Records; Amendments to Nine Existing Systems of Records

AGENCY: Office of the Secretary, Labor.

ACTION: Notice of five new systems of records; amendments to nine existing systems of records; decommissioning of five existing systems of records.

SUMMARY: The Privacy Act of 1974 requires that each agency publish notice of all of the systems of records that it maintains. This document proposes to add five new systems of records to the current systems of records of the Department of Labor (Department or DOL). With the addition of these five systems of records, and the decommissioning of five existing systems, the Department will maintain 153 systems of records. The Department also proposes to amend nine existing systems of records. The nine proposed revised systems of records include changes to their routine uses and to the various system categories, some of which are updates to names, locations and stylistic changes. Major changes are summarized in the introductory portion of the Supplementary Information section. DOL also proposes to decommission five existing outdated systems of records.

DATES: Persons wishing to comment on the changes set out in this notice may do so on or before March 24, 2014.

Effective Date: Unless there is a further notice in the Federal Register, these five new systems of records and nine amended systems of records and the decommissioning of five existing systems of records will become effective on April 8, 2014.

FOR FURTHER INFORMATION CONTACT: Joseph J. Plick, Counsel for FOIA and Information Law, Office of the Solicitor, Department of Labor, 200 Constitution Avenue NW., Room N-2420, Washington, DC 20210, telephone (202) 693-5527, or by email to plick.joseph@dol.gov.

SUPPLEMENTARY INFORMATION: Pursuant to the Privacy Act of 1974 (5 U.S.C. 552a(e)(4)), hereinafter referred to as the Act, the Department hereby publishes notice of updates to its systems of records. On April 8, 2002, in Volume 67 at Page 16816 of the Federal Register, the Department published a notice of 147 systems of records maintained under the Act. In February 2003, a new system of records was published on behalf of the Office of the 21st Century Workforce, entitled DOL/21st CENTURY-1, Correspondents with the Office of the 21st Century Workforce, which appeared at 68 FR 6185 (February 6, 2003). Additionally, in September 2003, the Department amended two existing systems of records, which appear at 68 FR 54012 (September 15, 2003). On January 11, 2012, the Department published five new and five amended systems of records, which appear at 77 FR 1728 (January 11, 2012).

This current document presents five new systems of records, amends nine systems of records, and proposes decommissioning of five systems of records, bringing the Department's total number of systems of records to 153. This notice first provides a summary of the five new, nine amended systems of records, and five proposed decommissioned systems of records, and then provides the Universal Routine Uses applicable to all systems of records, followed by the text of each of the new and amended systems of records.

1. The first new system is entitled DOL/ADJBDS-1, DOL Appeals Management System (AMS) (see Notice of Changes to Systems of Records, Section I below). This system contains information maintained by the Department concerning parties involved in appeals proceedings before the Administrative Review Board (ARB), Benefits Review Board (BRB), and Employees' Compensations Appeals Board (ECAB), collectively referred to as “the Boards.” As part of a long-term initiative to modernize their management information systems, the Boards have undertaken and completed a consolidation of four legacy computer systems into the DOL Appeals Management System (AMS). AMS now processes and stores the information previously contained in the following legacy systems:

a. DOL/ARB-1, Administrative Review Board Appeals files.

b. DOL/BRB-1, Appeals Benefits Review Board.

c. DOL/ECAB-1, Employees' Compensation Appeals Board Docket Records.

d. DOL/ECAB-2, Employees' Compensation Appeals Board Deposition Records.

2. The second new system is entitled DOL/BLS-21, Data Sharing Agreements Database (DSA) (see Notice of Changes to Systems of Records, Section II below). This system contains information maintained by the Department's Bureau of Labor Statistics (BLS) concerning individuals who have been granted access to non-public information in data files maintained by BLS, and who have signed confidentiality agreements under the Confidential Information Protection and Statistical Efficiency Act (CIPSEA).

3. The third new system is entitled DOL/CENTRAL-4, Department of Labor Advisory Committees Members Files (see Notice of Changes to System of Records, Section III below). The duties of the Committee Management Officer, previously located in the Office of Small Business Programs (OSPB), have been re-assigned to the Office of the Secretary. Therefore, the system of records titled DOL/OSBP-2, Department of Labor Advisory Committees Members Files, is proposed to be decommissioned. DOL/CENTRAL-4, Department of Labor Advisory Committees Members Files will include the contents of the decommissioned DOL/OSBP-2 system.

4. The fourth new system is entitled DOL/OMBUDSMAN-1, Office of the Ombudsman for the Energy Employees Occupational Illness Compensation Program Act (EEOICPA) File (see Notice of Changes to System of Records, Section IV below). This system contains records of contacts with and correspondence between individuals who are interested in obtaining information concerning their potential entitlement under Parts B and E of the EEOICPA.

5. The fifth new system is entitled DOL/VETS-4, VETS Employee Conduct Investigations (see Notice of Changes to System of Records, Section V below). This system contains records of investigations into allegations of employee misconduct within the Veterans' Employment and Training Service (VETS).

6. In the first proposed amendment to a system of records (see Notice of Changes to Systems of Record, Section VI below), the Department proposes to amend DOL/OASAM-12, Administrative Grievance Records, to add the phrase “settlement agreements” to the section titled “Categories of records in the system.” In addition, system location and several other categories are proposed to be refined.

7. In the second proposed amendment to a system of records (see Notice of Changes to Systems of Records, Section VII below), the Department proposes to amend DOL/OASAM-17, Equal Employment Opportunity Complaint Files, to clarify the “System location” sections. In addition, several other categories are proposed to be refined.

8. In the third proposed amendment to a system of records (see Notice of Changes to Systems of Records, Section VIII below), the Department proposes to amend DOL/OASAM-19, Negotiated Grievance Procedure and Unfair Labor Practice Files, to clarify the “System location” sections. In addition, several other categories are proposed to be refined.

9. In the fourth proposed amendment to a system of records (see Notice of Changes to Systems of Records, Section IX below), the Department proposes to amend DOL/OASAM-22, Civil Rights Center Discrimination Complaint Files, to clarify the “System location” sections. In addition, several other categories are proposed to be refined.

10. In the fifth proposed amendment to a system of records (see Notice of Changes to Systems of Records, Section X below), the Department proposes to amend DOL/OCFO-2, New Core Financial Management System (NCFMS), by updating the system name. In addition, several other categories are proposed to be refined.

11. In the sixth proposed amendment to a system of records (see Notice of Changes to Systems of Records, Section XI below), the Department proposes to amend DOL/ODEP-2, Workforce Recruitment Program for College Students with Disabilities (WRP) Database, by updating the system name; storage, retention and disposal of records information; and the categories of records contained in the system. In addition, several other categories are proposed to be refined.

12. In the seventh proposed amendment to a system of records (see Notice of Changes to Systems of Records, Section XII below), the Department proposes to amend DOL/OALJ-2, Office of Administrative Law Judges Case Files, by revising the statement of Authority for maintenance of the system.

13. In the eighth proposed amendment to a system of records (see Notice of Changes to Systems of Records, Section XIII below), the Department proposes to amend DOL/OSHA-6, Program Activity File, by updating the system location, the categories of individuals covered by the system, and the records contained in the system. In addition, several other categories are proposed to be refined.

14. In the ninth proposed amendment to a system of records (see Notice of Changes to Systems of Records, Section XIV below), the Department proposes to amend DOL/SOL-15, Solicitor's Office Litigation Files, to add the phrase “settlement agreements” to the section titled “Categories of records in the system,” and to clarify the “System location” section. In addition, several other categories are proposed to be refined.

15. The Department proposes to decommission five legacy systems of records (See Notice of Changes to Systems of Records, Section XV below). The first four decommissioned systems are entitled DOL/ARB-1, Administrative Review Board Appeals files; DOL/BRB-1, Appeals Benefits Review Board; DOL/ECAB-1, Employees' Compensation Appeals Board Docket Records; and DOL/ECAB-2, Employees' Compensation Appeals Board Deposition. The proposed decommissioned systems of records are being consolidated into a new systems of records as discussed in Paragraph 1 above. The Department also proposes to decommission a fifth system of records entitled DOL/OSBP-2, Department of Labor Advisory Committees Members Files. The proposed decommissioned systems of records is being eliminated as discussed in Paragraph 3 above.

The public, the Office of Management and Budget (OMB) and Congress are invited to submit written comments on the five new systems, the proposed amendments to nine existing systems, and the proposed decommissioning of five existing systems. A report on the five new systems and the proposed amendments to nine existing systems and proposed decommissioning of five existing systems has been provided to OMB and the Congress as required by OMB Circular A-130, Revised, and 5 U.S.C. 552a(r).

In its April 8, 2002, publication, the Department gave notice of 12 routine uses that apply to all of its systems of records, except for DOL/OASAM-5, DOL/OASAM-7, and DOL/CENTRAL-3. These 12 routine uses were presented in the General Prefatory Statement for that document, and appeared at Page 16825 of Volume 67 of the Federal Register. At this time, as a convenience to the reader of this document, we are republishing this General Prefatory Statement. This republication shall include the statement, also contained in the 2002 and 2011 publications, that pursuant to the Flexiplace Program (also known as “telework” consistent with the Telework Enforcement Act), the system location for all systems of records may be temporarily located at alternate worksites, including remote locations, employees' homes, or at geographically convenient satellite offices for part of the workweek.

Thomas E. Perez,
Secretary of Labor.

General Prefatory Statement

A. Universal Routine Uses of the Records

The following routine uses of the records apply to and are incorporated by reference into each system of records published below unless the text of a particular notice of a system of records indicates otherwise. These routine uses do not apply to DOL/OASAM-5, Rehabilitation and Counseling File; DOL/OASAM-7, Employee Medical Records, and DOL/CENTRAL-3, Internal Investigations of Harassing Conduct.

1. To disclose the records to the Department of Justice when: (a) The agency or any component thereof; or (b) any employee of the agency in his or her official capacity; or (c) the United States Government, is a party to litigation or has an interest in such litigation, and by careful review, the agency determines that the records are both relevant and necessary to the litigation, and the use of such records by the Department of Justice is for a purpose that is compatible with the purpose for which the agency collected the records.

2. To disclose the records in a proceeding before a court or adjudicative body, when: (a) The agency or any component thereof; or (b) any employee of the agency in his or her official capacity; or (c) any employee of the agency in his or her individual capacity; or (d) the United States Government, is a party to litigation or has an interest in such litigation, and by careful review, the agency determines that the records are both relevant and necessary to the litigation, and that the use of such records is for a purpose that is compatible with the purpose for which the agency collected the records.

3. When a record on its face, or in conjunction with other information, indicates a violation or potential violation of law, whether civil, criminal or regulatory in nature, and whether arising by general statute or particular program statute, or by regulation, rule, or order issued pursuant thereto, disclosure may be made to the appropriate agency, whether Federal, foreign, State, local, or tribal, or other public authority responsible for enforcing, investigating or prosecuting such violation or charged with enforcing or implementing the statute, or rule, regulation, or order issued pursuant thereto, if the agency determines by careful review that the records or information are both relevant and necessary to any enforcement, regulatory, investigative or prosecutive responsibility of the receiving entity, and that the use of such records or information is for a purpose that is compatible with the purposes for which the agency collected the records.

4. To a Member of Congress or to a Congressional staff member in response to an inquiry of the Congressional office made at the written request of the constituent about whom the record is maintained.

5. To the National Archives and Records Administration or to the General Services Administration for records management inspections conducted pursuant to 44 U.S.C. 2904 and 2906.

6. To disclose to contractors, employees of contractors, consultants, grantees, and volunteers who have been engaged to assist the agency in the performance of or working on a contract, service, grant, cooperative agreement or other activity or service for the Federal Government.

Note: Recipients shall be required to comply with the requirements of the Privacy Act of 1974, as amended, 5 U.S.C. 552a; see also 5 U.S.C. 552a(m).

7. To the parent locator service of the Department of Health and Human Services or to other authorized persons defined by Public Law 93-647 (42 U.S.C. 653(c)) the name and current address of an individual for the purpose of locating a parent who is not paying required child support.

8. To any source from which information is requested in the course of a law enforcement or grievance investigation, or in the course of an investigation concerning retention of an employee or other personnel action, the retention of a security clearance, the letting of a contract, the retention of a grant, or the retention of any other benefit, to the extent necessary to identify the individual, inform the source of the purpose(s) of the request, and identify the type of information requested.

9. To a Federal, State, local, foreign, tribal, or other public authority of the fact that this system of records contains information relevant to the hiring or retention of an employee, the granting or retention of a security clearance, the letting of a contract, a suspension or debarment determination or the issuance or retention of a license, grant, or other benefit.

10. To the Office of Management and Budget during the coordination and clearance process in connection with legislative matters.

11. To the Department of the Treasury, and a debt collection agency with which the United States has contracted for collection services, to recover debts owed to the United States.

12. To the news media and the public when (1) the matter under investigation has become public knowledge, (2) the Solicitor of Labor determines that disclosure is necessary to preserve confidence in the integrity of the Department or is necessary to demonstrate the accountability of the Department's officers, employees, or individuals covered by this system, or (3) the Solicitor of Labor determines that there exists a legitimate public interest in the disclosure of the information, provided the Solicitor of Labor determines in any of these situations that the public interest in disclosure of specific information in the context of a particular case outweighs the resulting invasion of personal privacy.

B. System Location—Flexiplace Programs

The following paragraph applies to and is incorporated by reference into all of the Department's systems of records under the Privacy Act, within the category entitled, SYSTEM LOCATION:

Pursuant to the Department of Labor's Flexiplace Programs (also known as “telework” pursuant to the Telework Enhancement Act), copies of records may be temporarily located at alternative worksites, including employees' homes or at geographically convenient satellite offices for part of the workweek. All appropriate safeguards will be taken at these sites.

C. Notice of Changes to Systems of Records

I. PUBLICATION OF A FIRST NEW SYSTEM OF RECORDS

DOL/ADJBDS-1

SYSTEM NAMES:

DOL Appeals Management System (AMS)

SECURITY CLASSIFICATION:

None.

SYSTEM LOCATION:

Offices of the Boards and their Information Technology (IT) service provider(s).

CATEGORIES OF INDIVIDUALS COVERED BY THE SYSTEM:

Parties involved in appeals proceedings before the Administrative Review Board (ARB), Benefits Review Board (BRB), and Employees' Compensation Appeals Board (ECAB), collectively referred to as the Boards.

CATEGORIES OF RECORDS IN THE SYSTEM:

Records contain information assembled in case files pertaining to appeals to the Boards with respect to claims of employees for benefits under various statutes and programs.

AUTHORITY FOR MAINTENANCE OF THE SYSTEM:

5 U.S.C. 301; Freedom of Information Act (5 U.S.C. 552); Privacy Act of 1974 (5 U.S.C. 552a); 30 U.S.C. 901-62 (1982); 33 U.S.C. 901-50 (1982); 42 U.S.C. 1651-54 (1982); 36 DC Code 501-04 (1973); 5 U.S.C. 8171-73 (1982); 42 U.S.C. 1701-17 (1982); Surface Transportation Assistance Act, 49 U.S.C. 31105; 29 CFR part 1978; Energy Reorganization Act of 1974, as amended, 42 U.S.C. 5851 (1988); Clean Air Act, 42 U.S.C. 7622 (1988); Water Pollution Control Act, 33 U.S.C. 1367 (1988); Solid Waste Disposal Act, 42 U.S.C. 6971(a) (1988); Safe Drinking Water Act, 42 U.S.C. 300j-9 (1988); Toxic Substances Control Act, 15 U.S.C. 2622 (1988); Comprehensive Environmental Response Compensation and Liability Act, 42 U.S.C. 9610 (1988); Comprehensive Employment and Training Act, as amended, 29 U.S.C. 801 (Supp. V 1981); Job Training Partnership Act, 29 U.S.C. 1576; 20 CFR part 627; Workforce Investment Act of 1998, 29 U.S.C. 2801 et seq., Davis-Bacon Act, 40 U.S.C. 276a (1994); McNamara-O'Hara Service Contract Act of 1965, as amended; Migrant and Seasonal Agricultural Worker Protection Act, 29 U.S.C. 1813(b), 1853(b) (1988); Longshore and Harbor Workers' Compensation Act, 33 U.S.C. 907(j) (1988); Walsh-Healey Public Contracts Act, as amended, 41 U.S.C. 38; 41 CFR part 50-203; Age Discrimination Act of 1975, 42 U.S.C. 6101-6107 (1988); Title VI of the Civil Rights Act of 1964; Contract Work Hours and Safety Standards Act, 40 U.S.C. 327 et seq.; 29 CFR part 6; Title IX of the Education Amendments of 1972, 20 U.S.C. 1681-1686 (1988); Employee Polygraph Protection Act of 1988, 29 U.S.C. 2001-2009 (1988); Equal Access to Justice Act, 5 U.S.C. 504 (1988); Executive Order No. 11,246, as amended, 3 CFR 339 (1964-1965 Comp.) reprinted in 42 U.S.C. 2000e app.; Fair Labor Standards Act of 1938, as amended, 29 U.S.C. 203(m) and (t), 211(d), 214(c) (1988); Federal Unemployment Tax Act, 26 U.S.C. 3304; Immigration Reform and Control Act of 1986, 8 U.S.C. 1101(a)(15)(H)(ii)(a), 1184(c), 1188 (1988); National Apprenticeship Act, 29 U.S.C. 50 (1988); Program Fraud Civil Remedies Act of 1986, 31 U.S.C. 3801-3812 (1988); Sections 503 and 504 of the Rehabilitation Act of 1973, as amended, 29 U.S.C. 793, 794 (1988); Social Security Act, 42 U.S.C. 503 (Supp. V 1987); Single Audit Act of 1984, 31 U.S.C. 7501-7507 (1988); Trade Act of 1974, as amended, 26 U.S.C. 3302; Vietnam Era Veterans Readjustment Assistance Act, as amended, 38 U.S.C. 4212 (1988); and any laws enacted after May 3, 1996, which by statute, law or regulation provide for final decisions by the Secretary of Labor upon appeal or review of decisions or recommended decisions of ALJs; 5 U.S.C. 8101 et seq.

PURPOSE:

Records are maintained for use in adjudication of appeals.

ROUTINE USES OF RECORDS MAINTAINED IN THE SYSTEM, INCLUDING CATEGORIES OF USERS AND THE PURPOSES OF SUCH USES:

In addition to those universal routine uses listed in the General Prefatory Statement to this document, disclosure outside the Department of Labor may be made to federal courts. The Boards decisions are sent to commercial publishing companies for publication, and are also placed on the respective Board's Internet Web site.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Records are retrieved by the Boards' docket number, Office of Administrative Law Judges (OALJ) number, Office of Workers' Compensation Programs (OWCP) number and claimant's name.

SAFEGUARDS:

Access by authorized personnel only. Computer security safeguards are used for electronically stored data and locked locations for paper files.

RETENTION AND DISPOSAL:

The Board retains the case file until it renders a decision on the appeal. The case file is then returned to the appropriate lower, adjudicatory entity (e.g., the OWCP or OALJ). Copies of the appeal decision are retained permanently.

SYSTEM MANAGER(S) AND ADDRESS:

Clerk of the Board, Benefits Review Board, U.S. Department of Labor, 200 Constitution Avenue NW., Washington, DC 20210.

NOTIFICATION PROCEDURE:

Individuals requesting information pertaining to them should send a written and signed request to the System Manager.

RECORD ACCESS PROCEDURES:

A request for access may be addressed to the System Manager. The request must be in writing and be signed by the requester.

CONTESTING RECORD PROCEDURES:

A petition for amendment shall be addressed to the System Manager.

RECORD SOURCE CATEGORIES:

Records in the system include information submitted by claimants, employers, carriers, and other persons involved in appeals proceedings, as well as by the Government.

SYSTEMS EXEMPTED FROM CERTAIN PROVISIONS OF THE ACT:

None.

II. PUBLICATION OF A SECOND NEW SYSTEM OF RECORDS

DOL/BLS-21

SYSTEM NAME:

Data Sharing Agreements Database (DSA).

SECURITY CLASSIFICATION:

None.

SYSTEM LOCATION:

Offices of the Bureau of Labor Statistics (BLS).

CATEGORIES OF INDIVIDUALS COVERED BY THE SYSTEM:

Applicants and recipients of BLS data sharing agreements who are granted access to non-public BLS data files. Individuals may be federal employees or private individuals designated as “agents” under the Confidential Information Protection and Statistical Efficiency Act (CIPSEA).

CATEGORIES OF RECORDS IN THE SYSTEM:

Records include individuals' names, addresses, telephone numbers, email addresses, organizational affiliation, project title, and project description. The records also include the name, addresses, telephone numbers, and email addresses of the signing official for the agreement at the individual's organization.

AUTHORITY FOR MAINTENANCE OF THE SYSTEM:

5 U.S.C. 301.

PURPOSE(S):

To assure that appropriate records on data sharing agreements are maintained and are available for official use.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING AND DISPOSING OF RECORDS IN THE SYSTEM:

STORAGE:

Files are stored electronically and/or on paper.

RETRIEVABILITY:

Files are retrieved by individual's name.

SAFEGUARDS:

Access by authorized personnel only. Computer security safeguards are used for electronically stored data and locked locations for paper files.

RETENTION AND DISPOSAL:

Records are retained for 5 years after agreement has become inactive (i.e. expired), in accordance with BLS Records Schedule N1-257-88-1, Item 216.

SYSTEM MANAGER(S) AND ADDRESS:

Data Sharing Agreement Coordinator, Division of Management Systems, Office of Administration, Bureau of Labor Statistics, Postal Square Building, 2 Massachusetts Avenue NE., Washington DC, 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from applicants and recipients of BLS data sharing agreements who request and/or are granted access to non-public BLS data files.

SYSTEMS EXEMPTED FROM CERTAIN PROVISIONS OF THE ACT:

None.

III. PUBLICATION OF A THIRD NEW SYSTEM OF RECORDS

DOL/CENTRAL-4

SYSTEM NAME:

Department of Labor Advisory Committees Members Files.

SECURITY CLASSIFICATION:

None.

SYSTEM LOCATION:

Offices in the various components within the U.S. Department of Labor that sponsor DOL Advisory Committees, at the Frances Perkins Building, 200 Constitution Avenue NW., Washington, DC 20210, or other Department offices.

CATEGORIES OF INDIVIDUALS COVERED BY THE SYSTEM:

Present and former members of advisory committees established by the Department, and candidates for a position on an advisory committee.

CATEGORIES OF RECORDS IN THE SYSTEM:

Records contained in this system are biographical information of individuals submitted by them because they are or have been members, or are being considered for membership on the committees. The records also include the biographical information regarding individuals who have been nominated for membership on advisory committees.

AUTHORITY FOR MAINTENANCE OF THE SYSTEM:

5 U.S.C. 301.

PURPOSE(S):

The records are used to ensure that all appropriate personal records of advisory committee members, and nominees, are retained and are available for official use.

ROUTINE USES OF RECORDS MAINTAINED IN THE SYSTEM, INCLUDING CATEGORIES OF USERS AND THE PURPOSES OF SUCH USES:

In addition to those universal routine uses listed in the General Prefatory Statement to this document, information in these records may be disclosed to the General Services Administration when necessary to comply with the Federal Advisory Committee Act.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Records are retrieved by member name, nominee name, committee name, or via identification number if electronically maintained.

SAFEGUARDS:

Access by authorized personnel only. Computer security safeguards are used for electronically stored data and locked locations for paper files.

RETENTION AND DISPOSAL:

After a committee is terminated, its records are transferred to the National Archives and Records Administration for permanent retention.

SYSTEM MANAGER(S) AND ADDRESS:

The relevant agency head for the applicable component agency within the U.S. Department of Labor, 200 Constitution Ave. NW., Washington, DC 20210.

NOTIFICATION PROCEDURE:

Individuals wishing to inquire whether this system of records contains information about them should send a written request to the System Manager. The written request must include the individual's full name, mailing address, and signature in order to allow the agency to locate and identify the records.

RECORD ACCESS PROCEDURES:

A request for access should be sent to the System Manager as indicated in the Notification Procedure Section. The request should also include the name of the Committee.

CONTESTING RECORD PROCEDURES:

A petition for amendment shall be addressed to the System Manager as indicated in the Notification Procedure Section.

RECORD SOURCE CATEGORIES:

Information contained in this system relates to individual members of the committee and those persons making nominations to the committee.

SYSTEMS EXEMPTED FROM CERTAIN PROVISIONS OF THE ACT:

None.

IV. PUBLICATION OF A FOURTH NEW SYSTEM OF RECORDS

DOL/OMBUDSMAN-1

SYSTEM NAME:

Office of the Ombudsman for the Energy Employees Occupational Illness Compensation Program Act (EEOICPA) File.

SECURITY CLASSIFICATION:

Most files and data are unclassified. Files and data in certain cases may have Top Secret classification and the rules concerning their maintenance and disclosure are determined by the agency that has given the information the security classification of Top Secret.

SYSTEM LOCATION:

U.S. Department of Labor, Office of the Ombudsman for the Energy Employees Occupational Illness Compensation Program Act, Frances Perkins Building, 200 Constitution Avenue NW., Washington, DC 20210.

CATEGORIES OF INDIVIDUALS COVERED BY THE SYSTEM:

Individuals or their survivors who are seeking benefits under the Energy Employees Occupational Illness Compensation Program Act (EEOICPA). These individuals include, but are not limited to, employees or survivors of employees of Department of Energy contractors and subcontractors, and certain uranium workers or survivors of those workers as described under Section 5 of the Radiation Employees Compensation Act (RECA).

CATEGORIES OF RECORDS IN THE SYSTEM:

This system may contain the following kinds of records: Correspondence between the Office of the Ombudsman and claimants, potential claimants, and/or survivors of such individuals or correspondence between the Office of the Ombudsman and the program agency regarding those individuals' EEOICPA claims; logs recording and detailing communications between claimants, potential claimants, and/or survivors of such individuals and the Office of the Ombudsman; claim forms filed by or on behalf of injured individuals or their survivors seeking benefits under the EEOICPA; reports by the employee and/or the United States Department of Energy; employment records; exposure records; safety records or other incident reports; dose reconstruction records; workers' or family members' contemporaneous diaries, journals, or other notes; forms authorizing medical care and treatment; other medical records and reports; bills and other payment records; compensation payment records; formal orders for or against the payment of benefits; transcripts of hearings conducted; and any other medical, employment, or personal information submitted or gathered in connection with the claim or complaint.

The system may also contain information relating to dates of birth, marriage, divorce, and death; notes (written or typed in email or other correspondence) of telephone conversations conducted in connection with the claim or complaint; information relating to vocational and/or medical rehabilitation plans and progress reports; records relating to court proceedings, insurance, banking and employment; articles from newspapers and other publications; information relating to other benefits (financial and otherwise) that the employee and/or survivor may be entitled to, including previously filed claims; and information received from various investigative agencies concerning possible violations of civil or criminal laws.

The system may also contain consumer credit reports on individuals indebted to the United States including information relating to the debtor's assets, liabilities, income and expenses, personal financial statements, correspondence to and from the debtor, and information relating to the location of the debtor. In addition, the system may contain other records and reports relating to the implementation of the Federal Claims Collection Act (as amended), including investigative reports or administrative review matters. Individual records listed here are included in a claim file only insofar as they may be pertinent or applicable to the individual claiming benefits.

AUTHORITY FOR MAINTENANCE OF THE SYSTEM:

Energy Employees Occupational Illness Compensation Program Act of 2000, Title XXXVI of Public Law 106-398, as amended by Public Law 108-375, 3161 (October 28, 2004), 42 U.S.C. 7385s-15.

PURPOSE(S):

To fulfill the duties of the Ombudsman under the EEOICPA as specified by Congress. The EEOICPA establishes a program for compensating certain individuals for covered illnesses related to exposure to toxic substances. These records are necessary to provide information to the public regarding the benefits available under the EEOICPA and the procedures attendant to those benefits, as well as to prepare the Congressionally mandated Report to Congress detailing the complaints and concerns received in the Office of the Ombudsman concerning that program.

ROUTINE USES OF RECORDS MAINTAINED IN THE SYSTEM, INCLUDING CATEGORIES OF USERS AND THE PURPOSE OF SUCH USES:

In addition to the universal routine uses listed in the General Prefatory Statement to this document, the Ombudsman may disclose relevant and necessary information to the Department of Labor's Office of Workers' Compensation Program (OWCP); the Department of Health and Human Services' National Institute for Occupational Safety and Health (NIOSH); and/or the Department of Energy's Office of Health and Safety in order for the Ombudsman to respond to inquiries made by claimants, potential claimants, and/or survivors of such individuals regarding those individuals' EEOICPA claims, to the extent necessary to identify the individual and inform the source of the purpose(s) of the request.

DISCLOSURE TO CONSUMER REPORTING AGENCIES:

The amount, status and history of overdue debts; the name and address, taxpayer identification (SSN), and other information necessary to establish the identity of a debtor; and the agency and program under which the claim arose may be disclosed pursuant to 5 U.S.C. 552a(b)(12) to consumer reporting agencies as defined by section 603(f) of the Fair Credit Reporting Act (15 U.S.C. 1681a(f)) or in accordance with section 3(d)(4)(A)(ii) of the Federal Claims Collection Act of 1966 as amended (31 U.S.C. 3711(f)) for the purpose of encouraging the repayment of an overdue debt.

POLICIES AND PRACTICES FOR STORING, RETRIEVING, ACCESSING, RETAINING, AND DISPOSING OF RECORDS IN THE SYSTEM:

STORAGE:

Files are stored electronically and/or on paper.

RETRIEVABILITY:

By name, employer, contractor, date, or nature of injury.

SAFEGUARDS:

Access by authorized personnel only. Computer security safeguards are used for electronically stored data and locked locations for paper files.

RETENTION AND DISPOSAL:

All case files and automated data pertaining to a claim are destroyed 15 years after the case file has become inactive. Paper records that have been scanned to create electronic records are destroyed after the electronic records are verified. Automated data is retained in its most current form only, and as information is updated, outdated information is deleted. Electronic records are destroyed six years and three months after creation or receipt.

SYSTEM MANAGER(S) AND ADDRESS:

Ombudsman, Energy Employees Occupational Illness Compensation Program Act, 200 Constitution Avenue NW., Suite N-2454, Washington, DC 20210.

NOTIFICATION PROCEDURE:

Individuals wishing to inquire whether this system of records contains information about them may write or telephone the Office of the Ombudsman. In order for the record to be located, the individual must provide his or her full name, claim number (if known), and date of injury (if known).

RECORD ACCESS PROCEDURES:

Any individual seeking access to non-exempt information about a claim in which he/she is a party in interest may write or telephone the Office of the Ombudsman.

CONTESTING RECORD PROCEDURES:

Any individual requesting amendment of non-exempt records should contact the Office of the Ombudsman. Individuals requesting amendment of records must comply with the Department's Privacy Act regulations at 29 CFR 71.1 and 71.9.

RECORD SOURCE CATEGORIES:

Claimants who are the subject of the record and their family members; employers; current and former Federal contractors and subcontractors and their family members; State governments, State agencies, and other Federal agencies; State and Federal workers' compensation offices; physicians and other medical professionals; hospitals; clinics; medical laboratories; suppliers of health care products and services and their agents and representatives; educational institutions; attorneys; Members of Congress; EEOICPA investigations; consumer credit reports; investigative reports; correspondence with the debtor including personal financial statements; records relating to hearings on the debt; and other Department systems of records.

SYSTEMS EXEMPTED FROM CERTAIN PROVISIONS OF THE ACT:

In accordance with 5 U.S.C. 552a(k)(2), investigative material in this system of records compiled for law enforcement purposes is exempt from subsections (c)(3), (d), (e)(1), (e)(4)(G), (H) and (I), and (f) of 5 U.S.C. 552a, provided, however, that if any individual is denied any right, privilege, or benefit that he or she would otherwise be entitled to by Federal law, or for which he or she would otherwise be eligible, as a result of the maintenance of these records, such material shall be provided to the individual, except to the extent that the disclosure of the material would reveal the identity of a source who furnished information to the Government under an express promise that the identity of the source would be held in confidence, or prior to January 1, 1975, under an implied promise that the identity of the source would be held in confidence.

V. PUBLICATION OF A FIFTH NEW SYSTEM OF RECORDS

DOL/VETS—4

SYSTEM NAME:

VETS Employee Conduct Investigations.

SECURITY CLASSIFICATION:

None.

SYSTEM LOCATION:

The Veterans' Employment and Training Service National and Regional Offices.

CATEGORIES OF INDIVIDUALS COVERED BY THE SYSTEM:

VETS employee(s) who are the subject of conduct investigations and/or against whom an allegation of misconduct, illegal act, conflict of interest, etc., has been made.

CATEGORIES OF RECORDS IN THE SYSTEM:

The records contained in this system are the name, organization, and other information relating to the investigated employee; investigative report(s); interview statements; and other data gathered during the investigation.

AUTHORITY FOR MAINTENANCE OF THE SYSTEM:

5 U.S.C. 301, 7301, and Executive Order 11222.

PURPOSE(S):

To investigate allegations of employee misconduct and ensure that appropriate records of alleged misconduct, illegal acts, conflicts of interest, etc., are established and maintained to document agency actions taken in each case.

ROUTINE USES OF RECORDS MAINTAINED IN THE SYSTEM, INCLUDING CATEGORIES OF USERS AND THE PURPOSES OF SUCH USES:

None, except for the General Prefatory Routine Uses.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

The manual case files are indexed by name and case number. Computerized records are retrieved by case number, case name, or subject.

SAFEGUARDS:

Access by authorized personnel only. Computer security safeguards are used for electronically stored data and locked locations for paper files.

RETENTION AND DISPOSAL:

General Record Schedule (GRS.01.18a)—Review annually and destroy superseded or obsolete documents, or destroy file relating to an employee within 1 year after separation or transfer. Records will be retained and disposed of, in accordance with appropriate Federal laws, policies, regulations and guidelines governing the retention and disposal of agency records.

SYSTEM MANAGER(S) AND ADDRESS:

Director, Office of Agency Management and Budget, Veterans' Employment and Training Service, 200 Constitution Avenue NW., Washington, DC 20210; and the Regional Administrator or Deputy Regional Administrator in the Veterans' Employment and Training Service regional offices (identified at http://www.dol.gov/vets/aboutvets/contacts/main.htm#reg3).

NOTIFICATION PROCEDURE:

Inquiries concerning this system can be directed to the System Manager or to the appropriate Regional Administrator or Deputy Regional Administrator. Such inquiries should include full name, agency, organization, and office component of the requester.

RECORD ACCESS PROCEDURES:

Individuals may request access to their records by mailing a request to the appropriate System Manager. Such inquiries should include full name, agency, organization, and office component of the requester.

CONTESTING RECORD PROCEDURES:

Individuals seeking to contest or amend information maintained in this system should direct their written request, containing the data elements listed above, to the appropriate System Manager. The request to amend should state clearly and concisely what information is being contested, the reasons for contesting, and the proposed amendment to the information.

RECORD SOURCE CATEGORIES:

Individuals; hotline complaints through the Office of the Inspector General's hotline; hotline complaints through the Government Accountability Office's hotline systems; incident reports submitted by employees; investigative reports; and interviews.

SYSTEMS EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

VI. PUBLICATION OF A FIRST PROPOSED AMENDED SYSTEM OF RECORDS

DOL/OASAM—12

SYSTEM NAME:

Administrative Grievance Records.

SECURITY CLASSIFICATION:

None.

SYSTEM LOCATION:

a. Human Resources Center, U.S. Department of Labor, 200 Constitution Avenue NW., Washington, DC 20210; and national and regional personnel offices;

b. Office of the Solicitor, U.S. Department of Labor, 200 Constitution Avenue NW., Washington, DC 20210; and regional offices of the Solicitor.

CATEGORIES OF INDIVIDUALS COVERED BY THE SYSTEM:

Current or former Department employees who have filed grievances under the Department's administrative grievance procedures in accordance with 5 CFR Part 771 and the Department's implementing regulation.

CATEGORIES OF RECORDS IN THE SYSTEM:

The system contains records relating to grievances filed by Department employees under administrative grievance procedures and in accordance with 5 CFR part 771 and the Department's implementing regulation. These case files contain all documents related to interviews and hearings, fact-finder's findings and recommendations, a copy of the original decision, and related correspondence and exhibits, including settlement agreements. This system does not include files and records of any grievance filed under negotiated procedures with recognized labor organizations.

AUTHORITY FOR MAINTENANCE OF THE SYSTEM:

5 CFR Part 771.

PURPOSE(S):

The records are used to process grievances submitted by employees for personal relief in a matter of concern or dissatisfaction which is subject to the control of agency management.

ROUTINE USES OF RECORDS MAINTAINED IN THE SYSTEM, INCLUDING CATEGORIES OF USERS AND THE PURPOSES OF SUCH USES:

In addition to the universal routine uses listed in the General Prefatory Statement to this document, the Department may disclose relevant and necessary data as follows:

a. To disclose information to any source from which additional information is requested in the course of processing a grievance, to the extent necessary to identify the individual, inform the source of the purpose(s) of the request, and identify the type of information requested.

b. To disclose information to officials of the Merit System Protection Board or the Office of Special Counsel, when requested in connection with appeals, special studies of the civil service and other merit systems, review of Department rules and regulations, investigations of alleged or possible prohibited personnel practices, and such other functions as may be authorized by law.

c. To disclose information to the Equal Employment Opportunity Commission when requested in connection with investigations into alleged or possible discrimination practices or examination of affirmative employment programs.

d. To disclose information to the Federal Labor Relations Authority or its General Counsel when requested in connection with investigations of allegations of unfair labor practices or matters before the Federal Service Impasses Panel.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or paper.

RETRIEVABILITY:

Records are retrieved by the names of the individuals on whom they are maintained.

SAFEGUARDS:

Access by authorized personnel only. Computer security safeguards are used for electronically stored data and locked locations for paper files.

RETENTION AND DISPOSAL:

Records are destroyed no sooner than 4 years but no later than 7 years after case is closed. (N1 GRS 92-1 item 30a).

SYSTEM MANAGER(S) AND ADDRESS:

Director, Office of Human Resources Policy and Strategic Planning, Human Resources Center, U.S. Department of Labor, 200 Constitution Avenue NW., Washington, DC 20210.

NOTIFICATION PROCEDURE:

Individuals submitting grievances should already be provided with a copy of the record under the grievance process. They may, however, contact the personnel office where the action was processed, regarding the existence of such records about them. Such individuals must furnish the following information for their records to be located and identified:

a. Name;

b. approximate date of closing of the case and kind of action taken; and

c. organizational component involved.

RECORDS ACCESS PROCEDURES:

A petition request for access may be addressed to the System manager. The request must be in writing, signed by the requester and must demonstrate a prevailing need.

CONTESTING RECORD PROCEDURES:

A petition for amendment shall be addressed to the System Manager.

RECORD SOURCE CATEGORIES:

Information in this system of records is provided by the following:

a. The individual on whom the records are maintained;

b. testimony of witnesses;

c. investigative and other employment records;

d. decisions by agency officials.

SYSTEMS EXEMPTED FROM CERTAIN PROVISIONS OF THE ACT:

None.

VII. PUBLICATION OF A SECOND PROPOSED AMENDED SYSTEM OF RECORDS

DOL/OASAM-17

SYSTEM NAME:

Equal Employment Opportunity Complaint Files.

SECURITY CLASSIFICATION:

None.

SYSTEM LOCATION:

a. Civil Rights Center, OASAM, U.S. Department of Labor, 200 Constitution Avenue NW., Washington, DC 20210;

b. Office of the Solicitor, Washington, DC; and regional offices of the Solicitor;

c. Agency Equal Employment Opportunity (EEO) Managers, Washington, DC and regional offices.

CATEGORIES OF INDIVIDUALS COVERED BY THE SYSTEM:

Individuals, classes of individuals, or representatives designated to act on behalf of Department employees, former employees, or applicants for employment who have consulted with an Equal Employment Opportunity (EEO) counselor and/or who have filed a formal complaint alleging discrimination on the basis of race, color, religion, sex (including gender identity and pregnancy), national origin, disability, age, genetic information, sexual orientation, parental status and/or any basis covered by Executive Order 11478, because of a determination, decision, action, or non-action administered against them by a departmental official, as well as individuals alleging reprisal for having previously participated in EEO activity.

CATEGORIES OF RECORDS IN THE SYSTEM:

Records include information and/or documents pertaining to pre-complaint processing, informal resolutions, formal complaints, and investigations of complaints. These records contain complainants' names; addresses; job titles and descriptions, and dates of employment; agencies involved; counselors' reports; initial and supplemental allegations; letters and notices to individuals and organizations involved in the processing of the complaint; materials placed into the record to support or refute the alleged decisions; determination or actions taken; statements of witnesses; related correspondence; investigative reports; instructions on actions to be taken in order to comply with the provisions of a decision; opinions; recommendations; settlement agreements; and proposed and final decisions.

AUTHORITY FOR MAINTENANCE OF THE SYSTEM:

Secretary's Order 1-2004; Title VII of the Civil Rights Act of 1964, as amended; the Equal Pay Act; the Lilly Ledbetter Fair Pay Act of 2009; the Age Discrimination in Employment Act of 1967, as amended; the Rehabilitation Act of 1973, as amended; the Americans with Disabilities Act Amendments Act of 2008; the Genetic Information Nondiscrimination Act of 2008; the Civil Service Reform Act of 1978; the Civil Rights Act of 1991; the No FEAR Act; Executive Order 11478, as amended; Executive Order 11375, as amended; Executive Order 13163; Executive Order 13164; Executive Order 13145; 29 CFR 1614; and the Equal Employment Opportunity Commission's (EEOC) Management Directives 110 (Complaint Processing) and 715 (Effective Affirmative Programs).

PURPOSE(S):

These records are used to process, investigate and resolve Equal Employment Opportunity complaints within the Department.

ROUTINE USES OF RECORDS MAINTAINED IN THE SYSTEM, INCLUDING CATEGORIES OF USERS AND THE PURPOSES OF SUCH USES:

The records in the complaint file are classified into three categories: correspondence, investigative, and transcripts. In addition to the universal routine uses listed in the General Prefatory Statement to this document, records that are relevant and necessary may be disclosed as follows:

a. To responding officials (ROs) or other witnesses consistent with the instructions in the Equal Employment Opportunity Commission's (EEOC's) Complaint Processing Manual which provides that during the investigative process witnesses may be given access to information and documents in the correspondence files and the investigative file where the investigator determines that the disclosure of information or documents is necessary to obtain information from the witness. If the Department issues a final decision on the complaint rejecting the complainant's allegations, ROs or other witnesses may not have access to the complaint file. If the Department takes or proposes adverse action against an RO or other witness, only the records upon which the decision is based, without deletions, must be made available for his or her review.

b. To Federal agencies with jurisdiction over a complaint, including the EEOC, the Office of Personnel Management, the Merit Systems Protection Board, the Office of Special Counsel, and the Federal Labor Relations Authority, for investigatory, conciliation or enforcement purposes.

c. To a physician or medical official for the purpose of evaluating medical documents in complaints of discrimination on the basis of disability.

DISCLOSURE TO CONSUMER REPORTING AGENCIES:

None.

POLICIES AND PRACTICES FOR STORING, RETRIEVING, ACCESSING, RETAINING AND DISPOSING OF RECORDS IN THE SYSTEM:

STORAGE:

Files are stored electronically and/or on paper.

RETRIEVABILITY:

Paper files are indexed by complainant's name and by the office case number. Electronic files are retrieved by: Office case number; complainant's name; fiscal year; current status of complaint; region code; issue code; basis code; agency code; class action; relief code; EOS identification; investigator identification.

SAFEGUARDS:

Access by authorized personnel only. Computer security safeguards are used for electronically stored data and locked locations for paper files.

RETENTION AND DISPOSAL:

Records are destroyed 4 years after resolution of case. (N1 GRS 80 9 item 1)

SYSTEM MANAGER(S) AND ADDRESS:

Director, Civil Rights Center, OASAM, U.S. Department of Labor, 200 Constitution Avenue NW., Washington, DC 20210.

NOTIFICATION PROCEDURE:

An individual wishing to inquire whether this system of records contains non-exempt information about him/her should contact the System Manager. Individuals must furnish in writing the following information for their records to be located and identified: As appropriate, their full name, the name of the employing agency and/or the agency in which the situation arose if different than the employing agency, approximate date of filing complaint, region of complaint, complaint case number, and the kind(s) of action(s) taken.

RECORD ACCESS PROCEDURES:

Individuals wishing to request access to their records should contact the System Manager as indicated in the Notification Procedure section above.

CONTESTING RECORD PROCEDURES:

A petition for amendment shall be addressed to the System Manager and must meet the requirements of Department's Privacy Act regulations at 29 CFR 71.1 and 71.9.

RECORD SOURCE CATEGORIES:

An individual to whom the record pertains; official documents relating to the processing of a complaint, including the informal and formal allegations, and appeals of departmental decisions; and respondent agency officials, employees, and other witnesses.

SYSTEMS EXEMPTED FROM CERTAIN PROVISIONS OF THE ACT:

Under the specific exemption provided by 5 U.S.C. 552a(k)(2), this system of records is exempted from the following provisions of the Privacy Act: (c)(3), (d), (e)(l), (e)(4)(G), (H), and (I), and (f). Release of information from the complaint file to the complainant may be denied in anticipation of a civil action or proceeding, in instances where premature release of documents could hamper the decision-making process, where the release of personal information may result in an invasion of personal privacy, and where release of confidential statements could lead to intimidation or harassment of witnesses and impair future investigations by making it more difficult to collect similar information.

VIII. PUBLICATION OF A THIRD PROPOSED AMENDED SYSTEM OF RECORDS

DOL/OASAM—19

SYSTEM NAME:

Negotiated Grievance Procedure and Unfair Labor Practice Files.

SECURITY CLASSIFICATION:

None.

SYSTEM LOCATION:

a. Human Resources Center, U.S. Department of Labor, 200 Constitution Avenue NW., Washington, DC 20210; and national and regional personnel offices.

b. Office of the Solicitor, U.S. Department of Labor, 200 Constitution Avenue NW., Washington, DC 20210; and regional offices of the Solicitor.

CATEGORIES OF INDIVIDUALS COVERED BY THE SYSTEM:

Department employees who have filed grievances under negotiated grievance procedures, and Department employees who have filed unfair labor practices charges against the Department.

CATEGORIES OF RECORDS IN THE SYSTEM:

This system contains a variety of records relating to employee grievances filed under procedures established by labor-management negotiations, and unfair labor practice charges filed under the Federal Service Labor-Management Relations Act. The records may include information such as: employee's name, grade, job title, employment history, arbitrator's decision or report, record of appeal to the Federal Labor Relations Authority, and a variety of employment and personnel records associated with a grievance or charge.

AUTHORITY FOR MAINTENANCE OF THE SYSTEM:

5 U.S.C. 7121 for grievances, 5 U.S. 7116 for unfair labor practices, Federal Service Labor-Management Relations Act and related amendments of 5 U.S.C. 5596(b) for back pay.

PURPOSE(S):

Records are used to process an employee's grievance filed under a negotiated grievance procedure, or an unfair labor practice charge filed by an employee or union.

ROUTINE USES OF RECORDS MAINTAINED IN THE SYSTEM, INCLUDING CATEGORIES OF USERS AND THE PURPOSES OF SUCH USES:

In addition to the universal routine uses listed in the General Prefatory Statement to this document, records that are relevant and necessary may be disclosed as follows:

a. To disclose information to officials of the Merit System Protection Board or the Office of Special Counsel, when requested in connection with appeals, special studies of the civil service and other merit systems, review of Department rules and regulations, investigations or alleged or possible prohibited personnel practices, and such other functions as may be authorized by law.

b. To disclose information to the Equal Employment Opportunity Commission when requested in connection with investigations into alleged or possible discrimination practices or examination of affirmative employment programs.

c. To disclose information to the Federal Labor Relations Authority or its General Counsel when requested in connection with investigations of allegations of unfair labor practices or matters before the Federal Service Impasses Panel.

d. To disclose information to the union when requested in connection with the union's representation of the Department employee who has filed the grievance or unfair labor practice.

DISCLOSURE TO CONSUMER REPORTING AGENCIES:

None.

POLICIES AND PRACTICES FOR STORING, RETRIEVING, ACCESSING, RETAINING, AND DISPOSING OF RECORDS IN THE SYSTEM:

STORAGE:

Files are stored electronically and on paper.

RETRIEVABILITY:

Records may be retrieved by name and/or case file number.

SAFEGUARDS:

Access by authorized personnel only. Computer security safeguards are used for electronically stored data and locked locations for paper files.

RETENTION AND DISPOSAL:

Records are destroyed 5 years after expiration of agreement. (NC1-64-77-10 item 29a1)

SYSTEM MANAGER(S) AND ADDRESS:

Director, Office of Human Resources Policy and Strategic Planning, Human Resources Center, U.S. Department of Labor, 200 Constitution Avenue NW., Washington, DC 20210.

NOTIFICATION PROCEDURE:

Individuals wishing to inquire whether this system contains records pertaining to them should contact the System Manager at the address listed above.

RECORD ACCESS PROCEDURES:

Individuals wishing to request access to records in this system should contact the System Manager at the address listed above.

CONTESTING RECORD PROCEDURES:

Individuals wishing to petition for amendment to their records contained in this system should contact the System Manager at the address listed above.

RECORD SOURCE CATEGORIES:

Individual employees who have filed grievances and charges, employee/supervisor interviews, investigative and employment records, and findings of arbitrators and other tribunals.

SYSTEMS EXEMPTED FROM CERTAIN PROVISIONS OF THE ACT:

Under the specific exemption provided by 5 U.S.C. 552a(k)(2), this system of records is exempted from the following provisions of the Privacy Act: (c)(3), (d), (e)(l), (e)(4)(G), (H), and (I), and (f). Release of information from the complaint file to the complainant may be denied in anticipation of a civil action or proceeding, in instances where premature release of documents could hamper the decision-making process, where the release of personal information may result in an invasion of personal privacy, and where release of confidential statements could lead to intimidation or harassment of witnesses and impair future investigations by making it more difficult to collect similar information.

IX. PUBLICATION OF A FOURTH PROPOSED AMENDED SYSTEM OF RECORDS

DOL/OASAM-22

SYSTEM NAME:

Civil Rights Center Discrimination Complaint Case Files.

SECURITY CLASSIFICATION:

None.

SYSTEM LOCATION:

a. Civil Rights Center, U.S. Department of Labor, 200 Constitution Avenue NW., Washington, DC 20210.

b. Office of the Solicitor, U.S. Department of Labor, 200 Constitution Avenue NW., Washington, DC 20210; and regional offices of the Solicitor.

CATEGORIES OF INDIVIDUALS COVERED BY THE SYSTEM:

Individuals, classes of individuals, or representatives designated to act on behalf of individuals, who file complaints against recipients of Department financial assistance, Department conducted programs, or State or local governments that exercise responsibilities, regulate, or administer services, programs, or activities in programs, services, and regulatory activities relating to labor and the workforce in order to enforce Federal law requiring nondiscrimination and equal opportunity.

CATEGORIES OF RECORDS IN THE SYSTEM:

Complainants' statements of alleged discrimination; respondents' statements; witnesses' statements; names and addresses of complainants and respondents; personal, employment, or program participation information; medical records; conciliation and settlement agreements; related correspondence; initial and final determinations; other records related to investigations of discrimination complaints.

AUTHORITY FOR MAINTENANCE OF THE SYSTEM:

Title VI of the Civil Rights Act of 1964, as amended, 42 U.S.C. 2000d to 2000d-4; Section 504 of the Rehabilitation Act of 1973, as amended, 29 U.S.C. 794; Title IX of the Education Amendments of 1972, as amended, 20 U.S.C. 1681-1688; the Age Discrimination Act of 1975, as amended, 42 U.S.C. 6101 et seq.; Section 188 of the Workforce Investment Act of 1998, 29 U.S.C. 2938; Title II, Subpart A, of the Americans with Disabilities Act of 1990, as amended, 42 U.S.C. 12131 et seq.; Executive Orders 13160 and 13166; Secretary's Order 4-2000; 29 CFR parts 31, 32, 33, 35, 36 and 37, and 28 CFR part 35.

PURPOSE(S):

These records are used to process, investigate and resolve discrimination complaints filed with the Department against (a) recipients of financial assistance from the Department, and in certain circumstances, from other federal departments and agencies; (b) Department conducted programs or activities; and (c) components of State and local governments that exercise responsibilities, regulate, or administer services, programs, or activities in all programs, services, and regulatory activities relating to labor and the workforce.

ROUTINE USES OF RECORDS MAINTAINED IN THE SYSTEM, INCLUDING CATEGORIES OF USERS AND THE PURPOSES OF SUCH USES:

In addition to the universal routine uses listed in the General Prefatory Statement to this document, records that are relevant and necessary may be disclosed as follows:

a. To the Equal Employment Opportunity Commission, Department of Justice, and Federal Mediation and Conciliation Service, when relevant to matters within the jurisdiction of those agencies over a complaint, for investigatory, conciliation, enforcement, or litigation purposes.

b. To organizations (and their employees) which are recipients of Federal financial assistance and against whom complaints in an administrative or judicial proceeding are filed to the extent necessary to effectively represent themselves, provided that the privacy of persons not a party to the dispute is protected.

c. To relevant witnesses so that they may be given access to information and documents in the correspondence files and the investigative file where the investigator determines that the disclosure of information or documents is necessary to obtain information from the witness.

d. To the Equal Employment Opportunity Commission, the Department of Justice, the Department of Health and Human Services, and other Federal entities having responsibility for coordinating civil rights activities and/or preparing reports to Congress under authorities indicated in this particular notice.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

These records are retrieved by various combinations of office case numbers, complainant's name, fiscal year, current status of complaint, State, basis code, and program code.

SAFEGUARDS:

Access by authorized personnel only. Computer security safeguards are used for electronically stored data and locked locations for paper files.

RETENTION AND DISPOSAL:

Records in this system are destroyed after one to four years. (N1 GRS 92 3 item 25c2).

SYSTEM MANAGER(S) AND ADDRESS:

Director, Civil Rights Center, OASAM, U.S. Department of Labor, 200 Constitution Avenue NW., Washington, DC 20210.

NOTIFICATION PROCEDURE:

An individual wishing to inquire whether this system of records contains non-exempt information about himself/herself should contact the System Manager. Individuals must furnish in writing the following information for their records to be located and identified: Full name and address; signature; complaint case number; and approximate date of filing. If the case number is unknown, inquiries should include the name of respondent; and last known status of the complaint.

RECORD ACCESS PROCEDURES:

Individuals wishing to request access to records pertaining to them should contact the System Manager as indicated in the Notification Procedure section above.

CONTESTING RECORD PROCEDURES:

A petition for amendment shall be addressed to the System Manager and must meet the requirements of the Department's Privacy Act regulations at 29 CFR 71.1 and 71.9.

RECORD SOURCE CATEGORIES:

Individual complainants; respondent officials, employees, and witnesses; interrogatories; recipient files and records; and physicians' and other medical service providers' records.

SYSTEMS EXEMPTED FROM CERTAIN PROVISIONS OF THE ACT:

In accordance with 5 U.S.C. 552a(k)(2), investigatory material in this system of records compiled for law enforcement purposes is exempt from subsections (c)(3); (d); (e)(l); (e)(4)(G), (H), and (I); and (f) of 5 U.S.C. 552a, provided, however, that if any individual is denied any right, privilege, or benefit that he or she would otherwise be entitled to by Federal law, or for which he or she would otherwise be eligible, as a result of the maintenance of these records, such material shall be provided to the individual, except to the extent that the disclosure of such material would reveal the identity of a source who furnished information to the Government with an express promise that the identity of the source would be held in confidence.

X. PUBLICATION OF A FIFTH PROPOSED AMENDED SYSTEM OF RECORDS

DOL/OCFO-2

SYSTEM NAME:

New Core Financial Management System (NCFMS)

SECURITY CLASSIFICATION:

Unclassified.

SYSTEM LOCATION:

The information is accessed from the following locations:

A. All Departmental component offices in Washington DC;

B. All Departmental component offices in the Regions.

CATEGORIES OF INDIVIDUALS COVERED BY THE SYSTEM:

All persons who receive a payment(s) from an agency/regional finance office, as well as persons who are indebted to DOL. Persons receiving payments include but are not limited to employees, vendors, travelers on official business, grantees, contractors, consultants, and recipients of loans and scholarships. Persons indebted to DOL include but are not limited to persons who have been overpaid, erroneously and/or improperly paid, as well as persons who have received from DOL goods or services for which there is a charge or fee (e.g., Freedom of Information Act requesters).

CATEGORIES OF RECORDS IN THE SYSTEM:

Name, date of birth, place of birth, identification number (Taxpayer Identification Number or other identifying number), address, phone number, email address, financial account information, purpose of payment, accounting classification, amount to be paid, date and amount paid.

AUTHORITY FOR MAINTENANCE OF THE SYSTEM:

5 U.S.C. 301.

PURPOSE(S):

The records are an integral part of the accounting system at the principal operating location, agency regional offices, and specific area locations. The system uses these records to keep track of all commitments, obligations, and payments to individuals, exclusive of salaries and wages. When an individual is to repay funds advanced as a loan or scholarship, etc., the records could be used to establish a receivable record and to track repayment status. In event of an overpayment to an individual, the record is used to establish a receivable record for recovery of the amount claimed. The records are also used internally to develop reports to the U.S. Department of Treasury and applicable state and local taxing officials of taxable income. This is a Department-wide notice of payment and collection activities at all locations listed under System Locations above.

ROUTINE USES OF RECORDS MAINTAINED IN THE SYSTEM, INCLUDING CATEGORIES OF USERS AND THE PURPOSES OF SUCH USES:

A. Transmittal of the records to the U.S. Treasury to effect issuance of payments to payees.

B. Pursuant to section 13 of the Debt Collection Act of 1982, the name, address(es), telephone number(s), identification number (Taxpayer Identification Number or other identifying number), as well as nature, amount and history of debts of an individual may be disclosed to private debt collection agencies for the purpose of collecting or compromising a debt existing in this system.

C. Information may be forwarded to the Department of Justice as prescribed in the Joint Federal Claims Collection Standards (4 CFR Chapter II) for the purpose of determining the feasibility of enforced collection, by referring the cases to the Department of Justice for litigation.

D. Pursuant to sections 5 and 10 of the Debt Collection Act of 1982, information relating to the implementation of the Debt Collection Act of 1982 may be disclosed to other Federal Agencies to effect salary or administrative offsets.

E. Information contained in the system of records may be disclosed to the Internal Revenue Service to obtain taxpayer mailing addresses for the purpose of locating such taxpayer to collect, compromise, or write off a Federal claim against the taxpayer.

F. Information may be disclosed to the Internal Revenue Service concerning the discharge of an indebtedness owed by an individual.

G. Information will be disclosed:

1. To credit card companies for billing purposes;

2. To other Federal agencies for travel management purposes;

3. To airlines, hotels, car rental companies and other travel related companies for the purpose of serving the traveler. This information will generally include the name, phone number, address, charge card information and itineraries;

4. To state and local taxing officials informing them of taxable income.

DISCLOSURE TO CONSUMER REPORTING AGENCIES:

The amount, status, and history of overdue debts; the name and address, identification number (Taxpayer Identification Number or other identifying number), and other information necessary to establish the identity of a debtor; and the agency and program under which the claim arose are disclosed pursuant to 5 U.S.C. 552a(b)(12) to consumer reporting agencies as defined by section 603(f) of the Fair Credit Reporting Act (15 U.S.C. 1681a(f)), in accordance with section 3(d)(4)(A)(ii) of the Federal Claims Collection Act of 1966, as amended (31 U.S.C. 3711(f)) for the purpose of encouraging the repayment of an overdue debt.

Note: Debts incurred by use of the official travel charge card are personal and the charge card company may report account information to credit collection and reporting agencies.

POLICIES AND PRACTICES FOR STORING, RETRIEVING, ACCESSING, RETAINING, AND DISPOSING OF RECORDS IN THE SYSTEM:

STORAGE:

Files are stored electronically and/or on paper.

RETRIEVABILITY:

Retrievability varies according to the particular operating accounting system within the Operating Division, Agency, and Regional Office. Computer records may be retrieved by accounting classification, identification number, voucher number, or on any field in the record.

SAFEGUARDS:

Access by authorized personnel only. Computer security safeguards are used for electronically stored data and locked locations for paper files.

RETENTION AND DISPOSAL:

All records in NCFMS are stored and retained for the life of the system and a minimum of six years and three months.

SYSTEM MANAGER(S) AND ADDRESS:

Associate Deputy CFO of Financial Systems, Office of the Chief Financial Officer, Department of Labor, 200 Constitution Avenue NW., Washington, DC 20210.

NOTIFICATION PROCEDURE:

Inquiries should be mailed or presented to the System Manager at the address listed above.

RECORD ACCESS PROCEDURES:

A request for access shall be addressed to the System Manager at the address listed above.

CONTESTING RECORD PROCEDURES:

A petition for amendment shall be addressed to the System Manager at the address listed above.

RECORD SOURCE CATEGORIES:

Individuals, employees, other DOL systems, other Federal agencies, credit card companies, government contractors.

SYSTEMS EXEMPTED FROM CERTAIN PROVISIONS OF THE ACT:

None.

XI. PUBLICATION OF A SIXTH PROPOSED AMENDED SYSTEM OF RECORDS

DOL/ODEP-2

SYSTEM NAME:

Workforce Recruitment Program for College Students with Disabilities (WRP) Database.

SECURITY CLASSIFICATION:

None.

SYSTEM LOCATION:

Office of Disability Employment Policy, U.S. Department of Labor, 200 Constitution Ave NW., Room S-1303, Washington, DC 20210.

CATEGORIES OF INDIVIDUALS COVERED BY THE SYSTEM:

College students and recent graduates with disabilities who have interviewed with a WRP recruiter on or through a college campus.

CATEGORIES OF RECORDS IN THE SYSTEM:

Student's name, social security number, address, telephone number, email address, college, major, minor, credits earned, degree sought, graduation date, Grade Point Average, job preference categories, appointment type, job location preference, type of disability, job accommodation information, resume, transcripts, recruiter's summary of student's interview and ratings, veteran status, and Schedule A eligibility.

AUTHORITY FOR MAINTENANCE OF THE SYSTEM:

5 U.S.C. 301.

PURPOSE(S):

To provide federal and private sector employers a database resource of college students and recent graduates with disabilities from which to identify qualified temporary and permanent employees in a variety of fields.

ROUTINE USES OF RECORDS MAINTAINED IN THE SYSTEM, INCLUDING CATEGORIES OF USERS AND THE PURPOSE OF SUCH USES:

In addition to those universal routine uses listed in the General Prefatory Statement to this document, relevant information concerning student interviewees may be disclosed to interested federal and private sector employers. Accommodation information concerning interviewees is disclosed to interested federal employers but not to private sector employers.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Records are retrieved by candidate's name, identification number, school attended, academic major keyword, graduation date, veteran status, Schedule A eligibility status, interview notes keyword, location preference, appointment type, degree program, and job preference category.

SAFEGUARDS:

Access by authorized personnel only. Computer security safeguards are used for electronically stored data and locked locations for paper files.

RETENTION AND DISPOSAL:

The application materials are retained in a secure, online database for one year from date of the interview through December of the next year.

SYSTEM MANAGER(S) AND ADDRESS:

The System Manager is the WRP Project Manager, Office of Disability Employment Policy, U.S. Department of Labor, 200 Constitution Ave NW., Washington, DC 20210.

NOTIFICATION PROCEDURE:

Inquiries should be mailed or presented in writing to the System Manager at the address listed above.

RECORDS ACCESS PROCEDURES:

Individuals wishing to gain access shall write to the Office of Disability Employment Policy at the above address or to request access to the database can register at www.wrp.gov.

CONTESTING RECORD PROCEDURES:

A petition for amendment shall be addressed to the System Manager.

RECORD SOURCE CATEGORIES:

College students and recent graduates with disabilities who have participated in an interview with a WRP recruiter.

SYSTEM EXEMPTED FROM CERTAIN PROVISIONS OF THE ACT:

None.

XII. PUBLICATION OF A SEVENTH PROPOSED AMENDED SYSTEM OF RECORDS

DOL/OALJ-2

SYSTEM NAME:

Office of Administrative Law Judges Case Files.

SECURITY CLASSIFICATION:

None.

SYSTEM LOCATION:

Unassigned case files are maintained by the Chief Administrative Law Judge or a District Chief Administrative Law Judge. Assigned case files are maintained by the presiding Administrative Law Judge. Files may be located in the National Office, U.S. Department of Labor, Office of Administrative Law Judges (OALJ), 800 K St., NW., Washington, DC 20001, or in district offices.

CATEGORIES OF INDIVIDUALS COVERED BY THE SYSTEM:

Claimants, complainants, respondents, and other party litigants in cases referred to the OALJ for hearing and decision.

CATEGORIES OF RECORDS IN THE SYSTEM:

Records may contain claim files; determinations and referral letters from the agency with initial claim development or investigatory responsibility; documents proffered as evidence; pleadings, motions, and other submissions by litigants; Administrative Law Judge (ALJ), notices, orders, and decisions and orders; hearing transcripts; and other documents and information necessary to hear and decide cases.

AUTHORITY FOR MAINTENANCE OF THE SYSTEM:

Administrative Procedure Act, 5 U.S.C. 553, 554, 556, 557, 571 et seq.; Age Discrimination Act of 1975, 42 U.S.C. 6103; 29 CFR part 34; Americans with Disabilities Act of 1990, 42 U.S.C. 12101 et seq.; 29 CFR part 34; Title VI of the Civil Rights Act of 1964, 42 U.S.C. 2000d-1; 29 CFR part 31; Clean Air Act, 42 U.S.C. 7622; 29 CFR part 24; Consumer Product Safety Improvement Act of 2008, 15 U.S.C. 2087; 29 CFR part 1983; Comprehensive Employment and Training Act, 29 U.S.C. 801-999 (Supp. V 1981); 20 CFR part 676 (1990); Comprehensive Environmental Response, Compensation and Liability Act of 1980, 42 U.S.C. 9610; 29 CFR part 24; Contract Disputes Act, 41 U.S.C. 601 et seq.; 41 CFR part 29—60; 48 CFR 2933.203.70; Contract Work Hours and Safety Standards Act, 40 U.S.C. 327 et seq.; 29 CFR part 6; Copeland Act, 40 U.S.C. 276c; 29 CFR part 6; Corporate and Criminal Fraud Accountability Act, Title VIII of the Sarbanes Oxley Act, 18 U.S.C. 1514A; 29 CFR part 1980; Davis-Bacon Act, as amended, 40 U.S.C. 276a-276a-7; 29 CFR part 6; Debt Collection Act of 1982, 31 U.S.C. 3711(f); 29 CFR part 20; Dodd-Frank Wall Street Reform and Consumer Protection Act, 12 U.S.C. 5567; Title IX of the Education Amendments of 1972, 20 U.S.C. 1682; 29 CFR part 34; Employee Polygraph Protection Act of 1988, 29 U.S.C. 2005; 29 CFR part 801, subpart E; Employee Retirement Income Security Act of 1974, 29 U.S.C. 1132 and 1135; 29 CFR parts 2560 and 2570; Energy Reorganization Act of 1974, as amended, 42 U.S.C. 5851; 29 CFR part 24; Equal Access to Justice Act, 5 U.S.C. 504; 29 CFR part 16; E.O. No. 11,246, as amended, 3 CFR 339 (1964-1965 Comp.) reprinted in 42 U.S.C. 2000e app.; 41 CFR parts 60-1 and 60-30; Fair Labor Standards Act of 1938, as amended, 29 U.S.C. 211(d); 29 CFR part 530, subpart E; Fair Labor Standards Act of 1938, as amended, 29 U.S.C. 214(c); 29 CFR part 525; Fair Labor Standards Act of 1938, as amended, 29 U.S.C. 216(e); 29 CFR part 580; Fair Labor Standards Act of 1938, as amended, 29 U.S.C. 218(C), as added by Affordable Care Act of 2010, P.L. 111-148, 1558; Title IV of the Federal Mine Safety and Health Act of 1977, as amended, 33 U.S.C. 901 et seq.; 20 CFR parts 410, 718, 725 and 727; Federal Railroad Safety Act, 49 U.S.C. 20109; 29 CFR part 1982; Federal Unemployment Tax Act, 26 U.S.C. 3303(b)(3), 3304(c); Federal Unemployment Tax Act (addressing agreements under the Trade Act of 1974, as amended), 26 U.S.C. 3302(c)(3); 20 CFR part 617; Federal Water Pollution Control Act, 33 U.S.C. 1367; 29 CFR part 24; FDA Food Safety Modernization Act, 21 U.S.C. 399d; Immigration and Nationality Act, as amended, 8 U.S.C. 1101(a)(15)(H), 1184 and 1186; 29 CFR part 501, subpart C; Immigration and Nationality Act, as amended, 8 U.S.C. 1101(a)(15)(H), 1182, 1184, 1188, 1288(c); 20 CFR part 655; Immigration and Nationality Act, as amended, 8 U.S.C. 1182(a)(5)(A); 20 CFR part 656; Job Training Partnership Act, 29 U.S.C. 1576; 20 CFR part 627; Labor-Management Reporting & Disclosure Act of 1959, 5 U.S.C. 7120; 29 CFR part 458; Longshore and Harbor Workers' Compensation Act, 33 U.S.C. 901 et seq. (and its extensions—the Defense Base Act, Outer Continental Shelf Lands Act, District of Columbia Workmen's Compensation Act, 36 DC Code 501 et seq., and Non-appropriated Fund Instrumentalities Act); 20 CFR parts 701, 702 and 704; McNamara-O'Hara Service Contract Act, as amended, 41 U.S.C. 351 et seq.; 29 CFR part 6; Migrant and Seasonal Agricultural Worker Protection Act, 29 U.S.C. 1813, 1853; 29 CFR part 500, subpart F; Moving Ahead for Progress in the 21st Century Act, 49 U.S.C. 30171; National Apprenticeship Act, 29 U.S.C. 50; 29 CFR parts 29 and 30; National Transit Systems Security Act of 2007, 6 U.S.C. 1142; 29 CFR part 1982; Pipeline Safety Improvement Act of 2002, 49 U.S.C. 60129; 29 CFR part 1981; Program Fraud Civil Remedies Act of 1986, 31 U.S.C. 3803; 29 CFR part 22; Section 503 of the Rehabilitation Act of 1973, as amended, 29 U.S.C. 793; 41 CFR part 60-741, subpart B; Section 504 of the Rehabilitation Act of 1973, as amended, 29 U.S.C. 794; 29 CFR part 32; Reorganization Plan No. 14 of 1950; and 29 CFR part 6; Rules of Practice and Procedure for Administrative Hearings Before the Office of Administrative Law Judges, 29 CFR part 18; Safe Drinking Water Act, 42 U.S.C. 300j-9(i); 29 CFR part 24; Single Audit Act of 1984, 31 U.S.C. 7505; OMB Circular Nos. A-128 and A-110; 29 CFR part 96, subpart 96.6; Seaman's Protection Act, 46 U.S.C. 2114; Social Security Act, 42 U.S.C. 503; 20 CFR part 601; Solid Waste Disposal Act, 42 U.S.C. 6971; 29 CFR part 24; Surface Transportation Assistance Act, 49 U.S.C. 31105; 29 CFR part 1978; Toxic Substances Control Act, 15 U.S.C. 2622; 29 CFR part 24; Vietnam Era Veterans Readjustment Assistance Act, as amended, 38 U.S.C. 4211, 4212; 41 CFR part 60-250, subpart B; Wagner-Peyser Act, as amended, 29 U.S.C. 49 et seq.; 20 CFR part 658; Walsh-Healey Public Contracts Act, as amended, 41 U.S.C. 38; 41 CFR part 50-203; Wendell H. Ford Aviation Investment and Reform Act for the 21st Century, 49 U.S.C. 42121; 29 CFR part 1979; Workforce Investment Act of 1998, 29 U.S.C. 2801 et seq.; 20 CFR parts 652, 660 through 670; 29 CFR Part 37; other statutes, executive orders and regulations providing for an ALJ hearing as they may become applicable in the future.

PURPOSE(S):

To maintain the court records for public administrative-adjudicative hearings. These records and information in these records are used as the court record in ALJ hearings conducted pursuant to 5 U.S.C. 552, 553, 554, 556, and 557 and/or a variety of particular statutes and executive orders. The purpose of the system is the adjudication of cases and determination of issues in hearings and appeals proceedings.

ROUTINE USES OF RECORDS MAINTAINED IN THE SYSTEM, INCLUDING CATEGORIES OF USERS AND THE PURPOSES OF SUCH USES:

In addition to the universal routine uses listed in the General Prefatory Statement to this document, the Department may disclose relevant and necessary data as follows:

Official case records, including final decisions and orders, may be disclosed to the Federal courts and boards that are charged with reviewing decisions on appeal.

Information from the official record may be disclosed to the parties or their attorneys or their non-attorney representatives in matters pending before the OALJ. Information from case files may also be disclosed pursuant to the Freedom of Information Act (FOIA), 5 U.S.C. 552.

ALJ decisions and orders and other selected orders are public agency records and are released to the public, for the purpose of creating a body of legal precedent which serves to guide the public regarding the statutes over which the OALJ exercises jurisdiction. Final decisions and orders and other selected orders are available on the agency's internet Web site at www.oalj.dol.gov and may be sent to commercial publishing companies for publication in paper form and over the internet. They are also available for public inspection at the OALJ's reading room.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Retrieved by case number or name of party.

SAFEGUARDS:

Access by authorized personnel only. Computer security safeguards are used for electronically stored data and locked locations for paper files.

RETENTION AND DISPOSAL:

In cases where the OALJ is the official custodian, inactive case files are retained for three years before being sent to a Federal Records Center. The Federal Records Center retains the files for an additional 15 years before they are authorized for destruction, except for certain cases designated as precedent setting, which become permanent records. In cases where OALJ is not the official custodian, for example matters relating to Black Lung and Longshore (and extensions) cases, the official file is transferred to the appropriate federal custodial agency. When a case is appealed, the case file is forwarded to the appropriate administrative appellate agency, such as the Benefits Review Board, or the Administrative Review Board.

SYSTEM MANAGER(S) AND ADDRESS:

Director of Program Operations, U.S. Department of Labor, Office of Administrative Law Judges, 800 K St., NW., Washington, DC 20001.

NOTIFICATION PROCEDURE:

Inquiries regarding the existence of records should be in the form of a written, signed request to the System Manager at the above address.

RECORD ACCESS PROCEDURES:

Individuals wishing to request access to their records should send a written, signed request to the System Manager.

CONTESTING RECORD PROCEDURES:

Individuals wishing to petition for an amendment to their records should send a written, signed request to the System Manager.

RECORD SOURCE CATEGORIES:

Records may include information submitted by the agency with initial claims development or investigatory responsibility, claimants, complainants, respondents, and other parties to the case, amicus curiae, ALJs involved in a case, the court reporter, and in the case of remanded cases, the administrative-appellate body or Federal court.

SYSTEMS EXEMPTED FROM CERTAIN PROVISIONS OF THE ACT:

None.

XIII. PUBLICATION OF AN EIGHTH PROPOSED AMENDED SYSTEM OF RECORDS

DOL/OSHA-6

SYSTEM NAME:

Program Activity File.

SECURITY CLASSIFICATION:

None.

SYSTEM LOCATION:

Electronic files are kept at the National Information Technology Center. Paper files are kept at the Occupational Safety and Health Administration's (OSHA's) area offices.

CATEGORIES OF INDIVIDUALS COVERED BY THE SYSTEM:

Compliance Safety and Health Officers, State Program, Cooperative Program and Compliance Assistance Staff, and Safety and Health Consultants of the Occupational Safety and Health Administration and its grantees.

CATEGORIES OF RECORDS IN THE SYSTEM:

Covering current and future program activities and program support activities conducted by safety and health compliance officers, consultants, and state program, cooperative program and compliance assistance staff. Examples of program activities include inspections, complaint investigations, time tracking, compliance assistance activities, consultations, state program tracking, Voluntary Protection Programs (VPP), Partnership and Alliance activities. Program support activities includes training, administrative duties, and general program work that is not associated with a discrete program activity.

AUTHORITY FOR MAINTENANCE OF THE SYSTEM:

Occupational Safety and Health Act of 1970 (29 U.S.C. 651-678).

PURPOSE:

These records are maintained to manage, process and document OSHA program actions and program related activities that support the programs (inspection, complaint investigation, time tracking, compliance assistance, consultation, state program tracking, voluntary protection, partnership and alliance). The data compiled from these records are used to manage day-to-day program operations and to analyze program effectiveness, efficiency and resource utilization in the various program areas and on activities within those program areas. The data are used by agency officials for performance management, planning and policy purposes.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING AND DISPOSING OF RECORDS IN THE SYSTEM:

STORAGE:

Files are stored electronically and/or on paper.

RETRIEVABILITY:

Individual records are retrievable by employee identifying number or by activity number for information related to a discrete activity. A system of permissions by job title and organization level will control access to individual records. Aggregate or summary data are retrievable based on a variety of selection criteria, including office, program area, activity type, employee category, etc.

SAFEGUARDS:

Access by authorized personnel only. Computer security safeguards are used for electronically stored data and locked locations for paper files.

RETENTION AND DISPOSAL:

Data files are maintained in accordance with National Archives and Records Administration Records Disposition Schedule.

SYSTEM MANAGER AND ADDRESS:

Director, Office of Management Data Systems, Occupational Safety and Health Administration, U.S. Department of Labor, 200 Constitution Avenue NW., Washington, DC 20210.

NOTIFICATION PROCEDURE:

Individuals wishing to inquire whether this system of records contains information about them should contact the System Manager at the address listed above.

RECORD ACCESS PROCEDURE:

Individuals wishing to gain access to records should contact the System Manager at the address listed above.

CONTESTING RECORD PROCEDURE:

Individuals wishing to request amendment of any record should contact the System Manager at the address listed above.

RECORD SOURCE CATEGORIES:

Data records for program areas including inspection, complaint investigation, time tracking, compliance assistance, consultation, state program tracking, voluntary protection, partnership and alliance, completed by safety and health compliance officers, consultants, and state program, cooperative program and compliance assistance staff.

SYSTEMS EXEMPTED FROM CERTAIN PROVISIONS OF THE ACT:

Not applicable.

XIV. PUBLICATION OF A NINTH PROPOSED AMENDED SYSTEM OF RECORDS

DOL/SOL-15

SYSTEM NAME:

Solicitor's Office Litigation Files.

SECURITY CLASSIFICATION:

None.

SYSTEM LOCATION:

National and regional locations of the Office of the Solicitor.

CATEGORIES OF INDIVIDUALS COVERED BY THE SYSTEM:

Plaintiffs, defendants, respondents, witnesses and other individuals who may have provided information relating to, or who may have been involved in matters that are part of litigation in which the Department is involved.

CATEGORIES OF RECORDS IN THE SYSTEM:

The system contains records, including settlement agreements, gathered by the various Offices of the Solicitor. The records may be derived from materials filed with the Department, court records, pleadings, statements of witnesses, information received from Federal, State, local and foreign regulatory organizations and from other sources. The system also contains records that incorporate the work product of the various Solicitor offices and other privileged documents.

AUTHORITY FOR MAINTENANCE OF THE SYSTEM:

5 U.S.C. 301.

PURPOSE(S):

These records are maintained for the purpose of prosecuting violations of labor laws, for defending lawsuits and claims brought against the Department, and for otherwise representing the Department in litigation matters.

ROUTINE USES OF RECORDS MAINTAINED IN THE SYSTEM, INCLUDING CATEGORIES OF USERS AND THE PURPOSES OF SUCH USE:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

By name.

SAFEGUARDS:

Access by authorized personnel only. Computer security safeguards are used for electronically stored data and locked locations for paper files.

RETENTION AND DISPOSAL:

Litigation files are maintained in accordance with the General Records Schedule located at https://www.dol.gov/dol/records/.

SYSTEM MANAGER(S) AND ADDRESS:

The appropriate Associate Solicitor, Regional Solicitor, or Associate Regional Solicitor, Office of the Solicitor, U.S. Department of Labor, 200 Constitution Avenue NW., Washington, DC 20210 and regional offices.

NOTIFICATION PROCEDURE:

Inquiries should be mailed or presented to the appropriate System Manager at the address listed above.

RECORD ACCESS PROCEDURES:

A request for access shall be addressed to the System Manager at the address listed above.

CONTESTING RECORD PROCEDURES:

A petition for amendments shall be addressed to the appropriate System Manager and must meet the requirements of 29 CFR 71.9.

RECORD SOURCE CATEGORIES:

Component agency investigative files; investigators; other law enforcement personnel; attorneys; witnesses; informants; other individuals; Federal, State and local agencies; opinion files; miscellaneous files.

SYSTEMS EXEMPTED FROM CERTAIN PROVISIONS OF THE ACT:

Under the specific exemption authority provided by 5 U.S.C. 552a(k)(2), this system is exempt from the following provisions of the Privacy Act: 5 U.S.C. 552a(c)(3), (d), (e)(l), (e)(4)(G), (H), (I), and (f) of the Act. Disclosure of the information contained in this system to the subject of the record could enable the subject of the record to take action to escape prosecution and could avail the subject greater access to information than that already provided under rules of discovery. In addition, disclosure of information might lead to intimidation of witnesses, informants, or their families, and impair future investigations by making it more difficult to collect similar information.

XV. DECOMMISSIONING OF FIVE OBSOLETE SYSTEMS OF RECORDS

RECORDS:

1. DOL/ARB-1, Administrative Review Board Appeals Files

2. DOL/BRB-1, Appeals Benefits Review Board

3. DOL/ECAB-1, Employees' Compensation Appeals Board Docket Records

4. DOL/ECAB-2, Employees' Compensation Appeals Board Deposition Records

5. DOL/OSBP-2, Department of Labor Advisory Committee Members Files.

[FR Doc. 2014-03072 Filed 2-11-14; 8:45 am]

BILLING CODE 4510-23-P